DEPARTMENT OF DEFENSE

Department of the Army

Availability of Non-Exclusive, Exclusive License or Partially Exclusive Licensing of U.S. Patent Concerning Flat Panel, Three Dimensional Display Unit

AGENCY: Department of the Army, DoD.

ACTION: Notice.

SUMMARY: In accordance with 37 CFR part 404.6, announcement is made of the availability for licensing of U.S. Patent US 6,181,303 B1 entitled “Flat Panel, Three Dimensional Display Unit” issued January 30, 2001. This patent is assigned to the United States Government as represented by the Secretary of the Army.

FOR FURTHER INFORMATION CONTACT: Mr. Kelly McGuire at U.S. Army Aviation and Missile Command, AMSAM-RD-AS-TI, Redstone Arsenal, AL 35898, Phone 256/876-8743 or e-mail kelly.mcguire@rdec.redstone.army.mil.

SUPPLEMENTARY INFORMATION: Any licenses granted shall comply with 35 U.S.C. 209 and 37 CFR Part 404.

Luz D. Ortiz,
Army Federal Register Liaison Officer.

[FR Doc. 02-23002 Filed 9-9-02; 8:45 am]

BILLING CODE 3710-08-M